FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202) 523-5793 or tradeanalysis@fmc.gov.

Agreement No.: 012108-009.

Agreement Name: World Liner Data Agreement.

Parties: Maersk A/S; CMA CGM S.A.; COSCO SHIPPING Lines Co., Ltd.; Hapag-Lloyd AG; Mediterranean Shipping Company S.A.; Orient Overseas Container Line Ltd.; Yang Ming Marine Transport Corp.; HMM Company Limited; Evergreen Line Joint Service Agreement; ZIM Integrated Shipping Services Limited; Swire Shipping Pte. Ltd.; Ocean Network Express Pte. Ltd.; Independent Container Line Ltd.; ANL Singapore PTE LTD; APL CO. PTE. LTD.

Filing Party: Wayne Rohde; Cozen O'Connor.

Synopsis: The amendment updates the membership of the agreement. More specifically, it deletes Hamburg Südamerikanische Dampfschifffahrtsgesellschaft KG, Nile Dutch Africa Line B.V., and Westwood Shipping Lines as parties to the agreement. It adds Yang Ming Marine Transport Corp., Swire Shipping Pte. Ltd., and Ocean Network Express Pte. Ltd. as parties. It also updates the addresses of COSCO Shipping Lines Co., Ltd. and Mediterranean Shipping Company S.A.

Proposed Effective Date: 8/30/2024.

Location: https://www2.fmc.gov/FMC.Agreements.Web/Public/AgreementHistory/362.

Dated: July 19, 2024.
Alanna Beck,
Federal Register Alternate Liaison Officer.

[FR Doc. 2024-16307 Filed 7-24-24; 8:45 am]

BILLING CODE 6730-02-P